DEPARTMENT OF HEALTH AND HUMAN SERVICES

Agency for Toxic Substances and Disease Registry

[Docket No. ATSDR-2015-0004]

Availability of Draft Toxicological Profile: Perfluoroalkyls; Extension of Comment Period

AGENCY: Agency for Toxic Substances and Disease Registry (ATSDR), Department of Health and Human Services (HHS).

ACTION: Notice of availability; request for comments; extension of comment period.

SUMMARY: The Agency for Toxic Substances and Disease Registry (ATSDR), within the Department of Health and Human Services (HHS) announces the extension of the comment period for the Draft Toxicological Profile for Perfluoroalkyls. ATSDR is seeking public comments and additional information, reports, and studies about the health effects of these substances.

DATES: Comments must be submitted by August 20, 2018.

ADDRESSES: You may submit comments, identified by docket number ATSDR-2015-0004, by any of the following methods:

• Internet: Access the Federal eRulemaking Portal at www.regulations.gov. Follow the instructions for submitting comments.

• Mail: Division of Toxicology and Human Health Sciences, Agency for Toxic Substances and Disease Registry, 1600 Clifton Rd. NE, MS F-57, Atlanta, GA, 30329. Attn: Docket No. ATSDR-2015-0004.

Instructions: All submissions must include the agency name and docket number for this notice. All relevant comments will be posted without change. This means that no confidential business information or other confidential information should be submitted in response to this notice.

FOR FURTHER INFORMATION CONTACT: Agency for Toxic Substances and Disease Registry, Division of Toxicology and Human Health Sciences, 1600 Clifton Rd. NE, MS F-57, Atlanta, GA, 30329, Email: Susan Ingber, at sdrtoxprofilefrns@cdc.gov; Telephone 1-800-232-4636.

SUPPLEMENTARY INFORMATION: There have been two previous Public Comment periods for the Perfluoroalkyls toxicological profile, one in 2009 (74 FR 36492) and 2015 (80 FR 53157). Due to the public comments received to both notices, as well as new literature, we revised the previous draft profile (including a revised Minimal Risk Level (MRL)); therefore, on June 21, 2018, ATSDR released a revised draft profile for public comment (83 FR 28849). Because the substantive revisions were limited to the MRLs Appendix, and given the public health demand for the updated toxicological profile, we opted for a 30 day comment period. ATSDR has received requests to extend the comment period for this profile. Accordingly, ATSDR is extending the comment period an additional 30 days. Comments must be submitted by August 20, 2018.

Availability

The Draft Toxicological Profiles are available online at http://www.atsdr.cdc.gov/ToxProfiles and at www.regulations.gov, Docket No. ATSDR-2015-0004.

Pamela I. Protzel Berman,
Director, Office of Policy, Partnerships and Planning, Agency for Toxic Substances and Disease Registry.

[FR Doc. 2018-15002 Filed 7-12-18; 8:45 am]

BILLING CODE 4163-70-P